DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than January 14, 2013.

Interested persons are invited to submit written comments regarding the subject matter of the investigations to the Director, Office of Trade Adjustment Assistance, at the address shown below, not later than January 14, 2013.

The petitions filed in this case are available for inspection at the Office of the Director, Office of Trade Adjustment Assistance, Employment and Training Administration, U.S. Department of Labor, Room N-5428, 200 Constitution Avenue NW., Washington, DC 20210.

Signed at Washington, DC, this 14th day of December 2012.
Elliott S. Kushner,
Certifying Officer, Office of Trade Adjustment Assistance.

Appendix
[30 TAA petitions instituted between 12/3/12 and 12/7/12]
TA-W | Subject firm (petitioners) | Location | Date of institution | Date of petition
82198 | American Foils, Inc. (State/One-Stop) | New Brunswick, NJ | 12/03/12 | 11/30/12
82199 | Regal Beloit (State/One-Stop) | Springfield, MO | 12/03/12 | 11/30/12
82200 | Covidien (Company) | Seneca, SC | 12/03/12 | 12/03/12
82201 | SeaChange International (State/One-Stop) | Greenville, NH | 12/03/12 | 12/03/12
82202 | Verizon Wireless (Workers) | Southfield, MI | 12/03/12 | 12/02/12
82203 | FCI USA, Inc. (Company) | Mount Union, PA | 12/04/12 | 12/03/12
82204 | Allegheny Millwork PBT (Company) | Lawrence, PA | 12/04/12 | 12/03/12
82205 | Thermo Fisher Scientific (Company) | Madison, WI | 12/05/12 | 12/04/12
82206 | The Nielsen Company (Company) | Green Bay, WI | 12/05/12 | 12/04/12
82207 | Hostess Brands (6 NV Locations) (State/One-Stop) | NV | 12/05/12 | 12/04/12
82208 | Hostess Brands (Union) | Boise, ID | 12/05/12 | 12/04/12
82209 | Cognizant Technology Solutions (State/One-Stop) | Teaneck, NJ | 12/05/12 | 12/04/12
82210 | Wellpoint (State/One-Stop) | Bronx, NY | 12/05/12 | 12/04/12
82211 | AGY (Union) | Huntingdon, PA | 12/05/12 | 12/04/12
82212 | BJR Selected Trucking Inc. (State/One-Stop) | Washington, PA | 12/05/12 | 12/04/12
82213 | Compucom (State/One-Stop) | Tewksbury, MA | 12/05/12 | 12/04/12
82214 | Kulicke & Soffa Industries (previous name was under (Company) | Irvine, CA | 12/05/12 | 12/03/12
82215 | Sharp Electronics Corporation (Workers) | Camas, WA | 12/05/12 | 12/03/12
82216 | PCCW Teleservices (Workers) | Quincy, IL | 12/05/12 | 12/04/12
82217 | IronTiger Logistics, Inc. (State/One-Stop) | Garland, TX | 12/06/12 | 12/05/12
82218 | ODW Contract Services (State/One-Stop) | Garland, TX | 12/06/12 | 12/05/12
82219 | TeleTech (Workers) | Springfield, MO | 12/06/12 | 12/05/12
82220 | Netlist, Inc. (State/One-Stop) | Irvine, CA | 12/06/12 | 12/05/12
82221 | Plexus Corporation—Neenah Design Center/Appleton 1 & 2 (State/One-Stop) | Appleton, WI | 12/06/12 | 12/05/12
82222 | Hostess Brands (9 Maine Locations) (State/One-Stop) | , ME | 12/06/12 | 12/05/12
82223 | Sumitomo Electric Wiring Systems, Inc. (Company) | Bowling Green, KY | 12/07/12 | 12/06/12
82224 | Evraz Stratcor (State/One-Stop) | Hot Springs, AR | 12/07/12 | 12/06/12
82225 | Dura Automotive Systems LLC (Company) | Milan, TN | 12/07/12 | 12/06/12
82226 | Hostess Brands IBC (Union) | La Grande, OR | 12/07/12 | 12/04/12
82227 | Berk—Tek (Nexans) (Workers) | New Holland, PA | 12/07/12 | 11/23/12

[FR Doc. 2012-31660 Filed 1-3-13; 8:45 am]

BILLING CODE 4510-FN-P